DEPARTMENT OF COMMERCE

International Trade Administration

[C-122-854]

Supercalendered Paper From Canada: Postponement of Preliminary Determination in the Countervailing Duty Investigation

AGENCY: Enforcement and Compliance, International Trade Administration, Department of Commerce.

FOR FURTHER INFORMATION CONTACT: Joshua Morris or Shane Subler, AD/CVD Operations, Office I, Enforcement and Compliance, International Trade Administration, U.S. Department of Commerce, 14th Street and Constitution Avenue NW., Washington, DC 20230; telephone: (202) 482-1779 or (202) 482-0189, respectively.

SUPPLEMENTARY INFORMATION:

Background

On March 18, 2015, the Department of Commerce (the Department) initiated a countervailing duty investigation on supercalendered paper from Canada.¹ Currently, the preliminary determination is due no later than May 22, 2015.

¹ See Supercalendered Paper from Canada: Initiation of Countervailing Duty Investigation, 80 FR 15981 (March 26, 2015).

Postponement of the Preliminary Determination

Section 703(b)(1) of the Tariff Act of 1930, as amended (the Act), requires the Department to issue the preliminary determination in a countervailing duty investigation within 65 days after the date on which the Department initiated the investigation. However, if the petitioner makes a timely request for an extension in accordance with 19 CFR 351.205(e), section 703(c)(1)(A) of the Act allows the Department to postpone the preliminary determination until no later than 130 days after the date on which the Department initiated the investigation.

On April 9, 2015, the petitioner ² submitted a timely request pursuant to section 703(c)(l)(A) of the Act and 19 CFR 351.205(e) to postpone the preliminary determination.³ Therefore, in accordance with section 703(c)(l)(A) of the Act, we are fully postponing the due date for the preliminary determination to not later than 130 days after the day on which the investigation was initiated. As a result, the deadline for completion of the preliminary determination is now July 27, 2015.⁴

² The Coalition For Fair Paper Imports (the petitioner).

³ See Letter from the petitioner, entitled “Supercalendered Paper from Canada: Request For Postponement Of The Preliminary Determination,” dated April 9, 2015.

⁴ The actual deadline based on the postponement to 130 days is July 26, 2015, which is a Sunday. Department practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(l).

Dated: April 15, 2015.
Paul Piquado,
Assistant Secretary for Enforcement and Compliance.

[FR Doc. 2015-09389 Filed 4-21-15; 8:45 am]

BILLING CODE 3510-DS-P